DEPARTMENT OF TRANSPORTATION

Surface Transportation Board

[STB Finance Docket No. 35149]

Mitchell-Rapid City Regional Railroad Authority—Modified Rail Certificate—Between Caputa and Rapid City, SD

On June 6, 2008, Mitchell-Rapid City Regional Railroad Authority (MRCRRA)¹ filed a notice for a modified certificate of public convenience and necessity under 49 CFR Part 1150, Subpart C, Modified Certificate of Public Convenience and Necessity, to operate a line of railroad between Caputa and Rapid City, SD (Caputa-Rapid City segment), owned by the South Dakota Department of Transportation (SDDOT). The Caputa-Rapid City segment extends from milepost 646.0, near Caputa, to milepost 659.6 in Rapid City, in Pennington County, SD, a distance of approximately 13.6 miles.

¹ MRCRRA is a political subdivision of the State of South Dakota.

The Caputa-Rapid City segment is part of a larger line of railroad, extending from Mitchell, SD, to Rapid City, that was acquired by the State of South Dakota from the Chicago, Milwaukee, St. Paul & Pacific Railroad Company after the line was approved for abandonment.²

² See Richard B. Olgivie, Trustee of the Property of Chicago, Milwaukee, St. Paul & Pacific Railroad Company—Abandonment—In South Dakota, Iowa and Nebraska, Docket No. AB-7 (Sub-No. 88) (ICC served May 14, 1980).

The State of South Dakota, through SDDOT, leased the Caputa-Rapid City segment to MRCRRA by agreement dated April 7, 2008. The line is currently out of service and requires rehabilitation before rail operations can commence. MRCRRA would provide service in its own name through a third-party contract operator, or by a sublease of the line to a third-party carrier.

The rail segment qualifies for a modified certificate of public convenience and necessity. See Common Carrier Status of States, State Agencies and Instrumentalities and Political Subdivisions, Finance Docket No. 28990F (ICC served July 16, 1981).

MRCRRA states that as of now no subsidy is involved and that there are no preconditions for shippers to meet in order to receive rail service.

This notice will be served on the Association of American Railroads (Car Service Division) as agent for all railroads subscribing to the car-service and car-hire agreement: Association of American Railroads, 50 F Street, NW., Washington, DC 20001; and on the American Short Line and Regional Railroad Association: American Short Line and Regional Railroad Association, 50 F Street, NW., Suite 7020, Washington, DC 20001.

Board decisions and notices are available on our Web site at http://www.stb.dot.gov.

Decided: June 23, 2008.
By the Board, Joseph H. Dettmar, Acting Director, Office of Proceedings.
Anne K. Quinlan,
Acting Secretary.

[FR Doc. E8-14631 Filed 6-26-08; 8:45 am]

BILLING CODE 4915-01-P